DEPARTMENT OF TRANSPORTATION

Office of the Secretary

14 CFR Parts 234, 244, 250, 253, 259, and 399

[Docket No. DOT-OST-2010-0140]

RIN No. 2105-AD92

Enhancing Airline Passenger Protections

AGENCY: Office of the Secretary (OST), Department of Transportation (DOT).

ACTION: Extension of comment period on proposed rule.

SUMMARY: This action extends the comment period for an NPRM on enhancing airline passenger protections that was published in the Federal Register on June 8, 2010. The Department of Transportation is extending the period for interested persons to submit comments on this rulemaking from August 9, 2010, to September 23, 2010. This extension is a result of requests from a number of airline associations, one airport association, and two airlines to extend the comment period for the proposal.

DATES: Comments must be received by September 23, 2010. Comments received after this date will be considered to the extent practicable.

ADDRESSES: You may file comments identified by the docket number DOT-OST-2010-0140 by any of the following methods:

• Federal eRulemaking Portal: Go to http://www.regulations.gov and follow the online instructions for submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal Holidays.

• Fax: (202) 493-2251.

Instructions: You must include the agency name and docket number DOT-OST-2010-0140 or the Regulatory Identification Number, RIN No. 2105-AD92, for the rulemaking at the beginning of your comment. All comments received will be posted without change to http://www.regulations.gov, including any personal information provided.

Privacy Act: Anyone is able to search the electronic form of all comments received in any of our dockets by the name of the individual submitting the comment (or signing the comment if submitted on behalf of an association, a business, a labor union, etc.). You may review DOT's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: Blane A. Workie or Daeleen Chesley, Office of the Assistant General Counsel for Aviation Enforcement and Proceedings, U.S. Department of Transportation, 1200 New Jersey Ave., SE., Washington, DC 20590, 202-366-9342 (phone), 202-366-7152 (fax), blane.workie@dot.gov or daeleen.chesley@dot.gov (e-mail).

SUPPLEMENTARY INFORMATION: On June 8, 2010, the Department published a Notice of Proposed Rulemaking (NPRM) on enhancing airline passenger protections that proposed to improve the air travel environment for consumers by: (1) Increasing the number of carriers that are required to adopt tarmac delay contingency plans and the airports at which they must adhere to the plan's terms; (2) increasing the number of carriers that are required to report tarmac delay information to the Department; (3) expanding the group of carriers that are required to adopt, follow, and audit customer service plans and establishing minimum standards for the subjects all carriers must cover in such plans; (4) requiring carriers to include their contingency plans and customer service plans in their contracts of carriage; (5) increasing the number of carriers that must respond to consumer complaints; (6) enhancing protections afforded passengers in oversales situations, including increasing the maximum denied boarding compensation airlines must pay to passengers bumped from flights; (7) strengthening, codifying and clarifying the Department's enforcement policies concerning air transportation price advertising practices; (8) requiring carriers to notify consumers of optional fees related to air transportation and of increases in baggage fees; (9) prohibiting post-purchase price increases; (10) requiring carriers to provide passengers timely notice of flight status changes such as delays and cancellations; (11) prohibiting carriers from imposing unfair contract of carriage choice-of-forum provisions; and (12) soliciting comments on options to provide greater access to air travel for persons with peanut allergies. See 75 FR 32318 (June 8, 2010). Comments on the matters proposed were to be received 60 days after publication of the NPRM, or by August 9, 2010.

We received requests for an extension of time in the comment period for this rulemaking by the Airport Council International (ACI), Association of Asia Pacific Airlines (AAPA), Association of European Airlines (AEA), Latin American & Caribbean Air Transport Association (ALTA), National Airlines Council of Canada (NACC), International Air Carrier Association (IACA), International Air Transport Association (IATA) and Societe Air France & KLM Royal Dutch. We also received a joint statement in support of IATA's request for an extension of the comment period by the Air Transport Association (ATA), Regional Airline Association (RAA) and Air Carrier Association of America (ACAA). According to these requests, the extension of time is needed so the airlines have sufficient time to review and comment on the extensive and complex proposed rule. More specifically, the petitioners note, among other things, the need to consult with multiple offices on the cost, timing and feasibility of the proposals, the need to analyze any international law implications, the need to evaluate and respond to the preliminary regulatory analysis, the need to coordinate and assess several areas addressed in this proposal against other U.S. Government proposals or requirements, the need to understand the implications in this proposal considering its breadth, and the need to address the various specific issues discussed in the preamble on which comments are sought but for which there is no corresponding proposed regulatory text. Most of the petitioners requested an additional 60 days time, a few requested an additional 90 days time, and one supported an additional 30 days time.

While we concur with the requests for an extension of the comment period, we believe that a 90-day or 60-day extension would be excessive. We have decided to grant an extension of 45 days, or until September 23, 2010, for the public to comment on the NPRM. In doing so, we have balanced the stated need for additional time for comments with the need to proceed expeditiously with this important rulemaking. We take note of the fact that with the additional 45 days we are granting here, interested parties will have a total of 105 days to comment on the proposals, which we believe is adequate time for analysis and coordination regarding the proposals. Accordingly, the Department finds that good cause exists to extend the time for comments on the proposed rule from August 9, 2010, to September 23, 2010. We do not anticipate any further extension of the comment period for this rulemaking.

Issued this 29th day of July, 2010, in Washington, DC under authority assigned to me by 14 CFR 385.17(c).
Neil R. Eisner,
Assistant General Counsel, Office of Regulation and Enforcement, U.S. Department of Transportation.

[FR Doc. 2010-19123 Filed 8-2-10; 8:45 am]

BILLING CODE 4910-9X-P